NUCLEAR REGULATORY COMMISSION

[Docket Nos. 50-325 and 50-324]

Carolina Power & Light Company; Brunswick Steam Electric Plant, Units 1 and 2; Notice of Issuance of Renewed Facility Operating License Nos. DPR-71 and DPR-62 for an Additional 20-Year Period

Notice is hereby given that the U.S. Nuclear Regulatory Commission (NRC or the Commission) has issued Renewed Facility Operating License Nos. DPR-71, and DPR-62 to Carolina Power & Light Company (the licensee), the operator of the Brunswick Steam Electric Plant (BSEP), Units 1 and 2. Renewed Facility Operating License No. DPR-71 authorizes operation of BSEP, Unit 1, by the licensee at reactor core power levels not in excess of 2923 megawatts thermal, in accordance with the provisions of the BSEP renewed license and its Technical Specifications. Renewed Facility Operating License No. DPR-62 authorizes operation of BSEP, Unit 2, by the licensee at reactor core power levels not in excess of 2923 megawatts thermal, in accordance with the provisions of the BSEP renewed license and its Technical Specifications.

BSEP, Units 1 and 2, are located south of Wilmington, NC, at the mouth of the Cape Fear River in Brunswick County, NC, and 2 miles north of Southport, NC. The licensee's application for the renewed licenses complies with the standards and requirements of the Atomic Energy Act of 1954, as amended (the Act), and the Commission's regulations. As required by the Act and the Commission's regulations in 10 CFR Chapter I, the Commission has made appropriate findings, which are set forth in each license. Prior public notice of the action involving the proposed issuance of the renewed licenses and of an opportunity for a hearing regarding the proposed issuance of the renewed licenses was published in the Federal Register on December 6, 2004 (69 FR 70471).

For further details with respect to this action, see (1) the Carolina Power & Light Company's license renewal application for BSEP, Units 1 and 2, dated October 18, 2004, as supplemented by letters dated February 24, March 14, March 17, March 31, April 8, April 21, May 4, May 11, May 16, June 1, June 14, July 18, August 11, September 29, November 22, and December 6, 2005; (2) the Commission's safety evaluation report (NUREG-1856), dated March 2006; and (3) the Commission's final environmental impact statement (NUREG-1437, Supplement 25), published in April 2006. These documents are available at the NRC Public Document Room, One White Flint North, 11555 Rockville Pike, Rockville, MD 20852, and on the NRC public Web site in the Electronic Reading Room at http://www.nrc.gov/reading-rm/adams.html.

Copies of Renewed Facility Operating License Nos. DPR-71 and DPR-62 may be obtained by writing to the U.S. Nuclear Regulatory Commission, Washington, DC 20555-0001, Attention: Director, Division of License Renewal. Copies of the BSEP, Units 1 and 2, safety evaluation report (NUREG-1856) and the final environmental impact statement (NUREG-1437, Supplement 25) may be purchased from the National Technical Information Service, U.S. Department of Commerce, Springfield, VA 22161-0002, http://www.ntis.gov, 703-605-6000, or Attention: Superintendent of Documents, U.S. Government Printing Office, P.O. Box 371954, Pittsburgh, PA 15250-7954, http://www.gpoaccess.gov), 202-512-1800. All orders should clearly identify the NRC publication number and the requester's Government Printing Office deposit account number or a VISA or MasterCard number and expiration date.

Dated at Rockville, Maryland, this 26th day of June 2006.
For the Nuclear Regulatory Commission.
Pao-Tsin Kuo,
Deputy Director, Division of License Renewal, Office of Nuclear Reactor Regulation.

[FR Doc. 06-5900 Filed 6-29-06; 8:45 am]

BILLING CODE 7590-01-P